INTERNATIONAL TRADE COMMISSION

[Inv. No. 337-TA-596]

In the Matter of: Certain GPS Chips, Associated Software and Systems, and Products Containing Same; Notice of Commission Determination Not To Review ALJ Order No. 36 Granting in Part Complainant's Motion for Summary Determination That the Importation Requirements of 19 U.S.C. 1337 Have Been Met

AGENCY: U.S. International Trade Commission.

ACTION: Notice.

SUMMARY: Notice is hereby given that the U.S. International Trade Commission has determined not to review an initial determination (“ID”) (Order No. 36) of the presiding administrative law judge (“ALJ”) granting in part complainant's motion for summary determination that the importation requirements of 19 U.S.C. 1337(a)(1)(B) have been met in the above-captioned investigation.

FOR FURTHER INFORMATION CONTACT: Eric Frahm, Office of the General Counsel, U.S. International Trade Commission, 500 E Street, SW., Washington, DC 20436, telephone 202-205-3152. Copies of the ID and all other nonconfidential documents filed in connection with this investigation are or will be available for inspection during official business hours (8:45 a.m. to 5:15 p.m.) in the Office of the Secretary, U.S. International Trade Commission, 500 E. Street, SW., Washington, DC 20436, telephone 202-205-2000. Hearing-impaired persons are advised that information on this matter can be obtained by contacting the Commission's TDD terminal on 202-205-1810. General information concerning the Commission may also be obtained by accessing its Internet server (http://www.usitc.gov). The public record for this investigation may be viewed on the Commission's electronic docket (EDIS) at: http://edis.usitc.gov.

SUPPLEMENTARY INFORMATION: On March 13, 2007, the Commission instituted an investigation under section 337 of the Tariff Act of 1930, 19 U.S.C. 1337, based on a complaint filed by SiRF Technology, Inc. of San Jose, California (“SiRF”), alleging a violation of section 337 in the importation, sale for importation, and sale within the United States after importation of certain GPS chips, associated software and systems, and products containing same by reason of infringement of certain claims of U.S. Patent Nos. 6,304,216; 7,043,363; 7,091,904 (“the '904 patent”); and 7,132,980. 72 FR 11378 (Mar. 13, 2007). The complainant named Global Locate, Inc. of San Jose, California (“Global Locate”) as respondent. The complaint and notice of investigation were later amended to include one additional claim of the '904 patent. Subsequently, the investigation was terminated with respect to the '904 patent and certain other asserted claims of the remaining patents. The complaint and notice of investigation were also amended to add Broadcom, Inc. as a respondent to the investigation.

On February 1, 2008, complainant SiRF moved for summary determination that the importation requirements of 19 U.S.C. 1337(a)(1)(B) have been met. On February 15, 2008, Global Locate opposed SiRF's motion, and the Commission investigative attorney supported SiRF's motion in part.

On February 26, 2008, the ALJ issued the subject ID granting complainant's motion in part. No party petitioned for review of the ID, and the Commission has determined not to review the ID.

The authority for the Commission's determination is contained in section 337 of the Tariff Act of 1930, as amended (19 U.S.C. 1337), and in section 210.42(h) of the Commission's Rules of Practice and Procedure (19 CFR 210.42(h)).

By order of the Commission.
Issued: March 13, 2008.
Marilyn R. Abbott,
Secretary to the Commission.

[FR Doc. E8-5613 Filed 3-19-08; 8:45 am]

BILLING CODE 7020-02-P